DEPARTMENT OF THE INTERIOR

National Park Service

National Landmarks Committee; Meeting

AGENCY: National Park Service, U.S. Department of the Interior.

ACTION: Notice of meeting.

SUMMARY: Notice is hereby given in accordance with the Federal Advisory Commission Act that a meeting of the National Landmarks Committee of the National Park System Advisory Board will be held beginning at 9 a.m. on the following date and at the following location.

DATES: April 8, 2003.

LOCATION: The Lyceum: Alexandria's History Museum, 201 South Washington Street, Alexandria, Virginia 22314.

FOR FURTHER INFORMATION CONTACT: Patricia Henry, National Historic Landmarks Survey, National Register, History, and Education, National Park Service; 1849 C Street, NW (2280), Washington, DC 20240. Telephone (202) 354-2216.

SUPPLEMENTARY INFORMATION: The purpose of the meeting of the National Landmarks Committee of the National Park System Advisory Board is to evaluate the nomination of a historic property in order to advise the full National Park System Advisory Board of the qualifications of the property being proposed for National Historic Landmark (NHL) designation, and to recommend to the National Park System Advisory Board if the Landmarks Committee finds that this property meets the criteria for designation as a National Historic Landmark. The members of the National Landmarks Committee are:

Dr. Janet Snyder Matthews, Chair

Dr. Allyson Brooks

Dr. Ian W. Brown

Mr. S. Allen Chambers, Jr.

Dr. Elizabeth Clark-Lewis

Dr. Bernard L. Herman

Professor E.L. Roy Hunt

Ms. Paula J. Johnson

Mr. Jerry L. Rogers

Dr. Richard Guy Wilson

From 9 to 10:30 a.m. the meeting will include a presentation and discussion on the national historic significance and the historic integrity of one property being nominated for National Historic Landmark designation. In addition, one National Historic Trail Study will also be considered at that time. After that time the committee will engage in a general discussion on the procedures of the National Historic Landmarks Program. The meeting will be open to the public. Any member of the public may file for consideration by the committee written comments concerning the one National Historic Landmarks nomination and matters to be discussed pursuant to 36 CFR Part 65, or the trail study.

Comments should be submitted to Carol D. Shull, Chief, National Historic Landmarks Survey and Keeper of the National Register of Historic Places; National Register, History, and Education; National Park Service; 1849 C Street, NW (2280); Washington, DC 20240.

The committee will consider the following nomination:

Florida

Fort King

The committee will also consider the recommendations presented in the Washington-Rochambeau Revolutionary War Route National Historic Trail Study, prepared under the auspices of Public Law 106-473.

Dated: January 29, 2003.
Carol D. Shull,
Chief, National Historic Landmarks Survey and Keeper of the National Register of Historic Places; National Park Service, Washington, DC.

[FR Doc. 03-2661 Filed 2-4-03; 8:45 am]

BILLING CODE 4310-70-P